RAILROAD RETIREMENT BOARD

Agency Forms Submitted for OMB Review, Request for Comments

SUMMARY: In accordance with the Paperwork Reduction Act of 1995, the Railroad Retirement Board (RRB) is forwarding an Information Collection Request (ICR) to the Office of Information and Regulatory Affairs (OIRA), Office of Management and Budget (OMB). Our ICR describes the information we seek to collect from the public. Review and approval by OIRA ensures that we impose appropriate paperwork burdens.

The RRB invites comments on the proposed collections of information to determine (1) the practical utility of the collections; (2) the accuracy of the estimated burden of the collections; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

1. Title and purpose of information collection: Application for Employee Annuity Under the Railroad Retirement Ac; OMB 3220-0002.

Section 2(a) of the Railroad Retirement Act (RRA) provides for payments of age and service, disability, and supplemental annuities to qualified employees. An annuity cannot be paid until the employee stops working for a railroad employer. In addition, the age and service employee must relinquish any rights held to such jobs. A disabled employee does not need to relinquish employee rights until attaining Full Retirement Age, or if earlier, when their spouse is awarded a spouse annuity. Benefits become payable after the employee meets certain other requirements, which depend on the type of annuity payable. The requirements for obtaining the annuities are prescribed in 20 CFR 216 and 220.

To collect the information needed to help determine an applicant's entitlement to, and the amount of, an employee retirement annuity the RRB uses Forms AA-1, Application for Employee Annuity; AA-1d, Application for Determination of Employee Disability; G-204, Verification of Workers Compensation/Public Disability Benefit Information, and electronic Forms AA-1cert, Application Summary and Certification, and AA-1sum, Application Summary.

The AA-1 application process obtains information from an applicant about their marital history, work history, military service, benefits from other governmental agencies, railroad pensions and Medicare entitlement for either an age and service or disability annuity. An RRB representative interviews the applicant either at a field office, an itinerant point, or by telephone. During the interview, the RRB representative enters the information obtained into an on-line information system. Upon completion of the interview, the on-line information system generates Form AA-1cert, Application Summary and Certification, or Form AA-1sum, Application Summary, a summary of the information that was provided for the applicant to review and approve. Form AA-1cert documents approval using the traditional pen and ink “wet” signature, and Form AA-1sum documents approval using the alternative signature method called Attestation. When the RRB representative is unable to contact the applicant in person or by telephone, for example, the applicant lives in another country, a manual version of Form AA-1 is used.

Form AA-1d, Application for Determination of Employee's Disability, is completed by an employee who is filing for a disability annuity under the RRA, or a disability freeze under the Social Security Act, for early Medicare based on a disability. Form G-204, Verification of Worker's Compensation/Public Disability Benefit Information, is used to obtain and verify information concerning a worker's compensation or a public disability benefit that is or will be paid by a public agency to a disabled railroad employee.

One response is requested of each respondent. Completion of the forms is required to obtain/retain a benefit.

Previous Requests for Comments: The RRB has already published the initial 60-day notice (82 FR 43415 on September 15, 2017) required by 44 U.S.C. 3506(c)(2). That request elicited no comments.

Information Collection Request (ICR)

Title: Application for Employee Annuity Under the Railroad Retirement Act.

OMB Control Number: 3220-0002.

Form(s) submitted: AA-1, AA-1cert, AA-1d, AA-1sum and G-204.

Type of request: Revision of a currently approved collection.

Affected public: Individuals or Households.

Abstract: The Railroad Retirement Act provides for payment of age, disability and supplemental annuities to qualified employees. The application and related forms obtain information about the applicant's family work history, military service, disability benefits from other government agencies and public or private pensions. The information is used to determine entitlement to and the amount of the annuity applied for.

Changes proposed: The RRB proposes to add the following two new items—“Are you expecting a newborn?” and its possible “Yes” response—“Expected Date” to Form AA-1. This information will help determine if the applicant can potentially receive an additional benefit amount. The RRB also proposes the implementation of an Internet equivalent version of Form AA-1 that can be completed by the applicant and submitted through the RRB's Web site at www.rrb.gov. The RRB proposes no changes to Forms AA-1d or G-204.

The burden estimate for the ICR is as follows:

Form No. | Annual responses | Time (minutes) | Burden (hours)
AA-1 (without assistance) | 35 | 62 | 36
AA-1cert (with assistance) | 7,050 | 30 | 3,525
AA-1sum (with assistance) | 2,415 | 29 | 1,167
AA-1 (Internet) (without assistance) | 3,220 | 45 | 2,415
AA-1d (with assistance) | 2,600 | 60 | 2,600
AA-1d (without assistance) | 5 | 85 | 7
G-204 | 20 | 15 | 5
Total | 15,345 |  | 9,755

2. Title and purpose of information collection: Availability for Work; OMB 3220-0164.

Under Section 1(k) of the Railroad Unemployment Insurance Act, unemployment benefits are not payable for any day for which the claimant is not available for work.

Under Railroad Retirement Board (RRB) regulation 20 CFR 327.5, “available for work” is defined as being willing and ready for work. A claimant is “willing” to work if willing to accept and perform for hire such work as is reasonably appropriate to his or her employment circumstances. A claimant is “ready” for work if he or she (1) is in a position to receive notice of work and is willing to accept and perform such work, and (2) is prepared to be present with the customary equipment at the location of such work within the time usually allotted.

Under RRB regulation 20 CFR 327.15, a claimant may be requested at any time to show, as evidence of willingness to work, that reasonable efforts are being made to obtain work. In order to determine whether a claimant is; (a) available for work, and (b) willing to work, the RRB utilizes Forms UI-38, UI Claimant's Report of Efforts to Find Work, and UI-38s, School Attendance and Availability Questionnaire, to obtain information from the claimant and Form ID-8k, Questionnaire—Reinstatement of Discharged or Suspended Employee, from the union representative. One response is completed by each respondent.

Previous Requests for Comments: The RRB has already published the initial 60-day notice (82 FR 42368 on September 7, 2017) required by 44 U.S.C. 3506(c)(2). That request elicited no comments.

Information Collection Request (ICR)

Title: Availability for Work.

OMB Control Number: 3220-0164.

Form(s) submitted: UI-38, UI-38s, and ID-8k.

Type of request: Revision of a currently approved collection.

Affected public: Individuals or Households, Non-profit institutions.

Abstract: Under Section 1(k) of the Railroad Unemployment Insurance Act, unemployment benefits are not payable for any day in which the claimant is not available for work. The collection obtains information needed by the RRB to determine whether a claimant is willing and ready to work.

Changes proposed: The RRB proposes the following changes to Forms UI-38 and UI-38s and proposes no changes to Form ID-8k.

• Form UI-38.

○ We propose adding that the claimant can now use online options when searching for a job.

○ We propose to inform the claimant to register with the State Employment Service and provide proof of the registration to the RRB.

• Form UI-38s—We propose to add an online school selection for students who cannot provide their class hours because their courses are online.

The burden estimate for the ICR is as follows:

Form No. | Annual responses | Time (minutes) | Burden (hours)
UI-38s (in person) * | 59 | 6 | 6
UI-38s (by mail) * | 119 | 10 | 20
UI-38 | 3,485 | 11.5 | 668
ID-8k | 6,461 | 5 | 538
Total | 10,124 |  | 1,232

Additional Information or Comments: Copies of the forms and supporting documents can be obtained from Dana Hickman at (312) 751-4981 or Dana.Hickman@RRB.GOV.

Comments regarding the information collection should be addressed to Brian Foster, Railroad Retirement Board, 844 North Rush Street, Chicago, Illinois 60611-1275 or Brian.Foster@rrb.gov and to the OMB Desk Officer for the RRB, Fax: 202-395-6974, Email address: OIRA_Submission@omb.eop.gov.

Brian D. Foster,
Clearance Officer.

[FR Doc. 2017-25133 Filed 11-20-17; 8:45 am]

BILLING CODE 7905-01-P